DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 15, 2002.

Interested persons are invited to submit written comments regarding the subject matter of the investigations to the Director, Division of Trade Adjustment Assistance, at the address shown below, not later than April 15, 2002.

The petitions filed in this case are available for inspection at the Office of the Director, Division of Trade Adjustment Assistance, Employment and Training Administration, U.S. Department of Labor, Room C-5311, 200 Constitution Avenue, NW., Washington, DC 20210.

Signed at Washington, DC this 25th day of February, 2002.
Edward A. Tomchick,
Director, Division of Trade Adjustment Assistance.

Appendix
[Petitions instituted on 02/25/2002]
TA-W | Subject firm (Petitioners) | Location | Date of petition | Product(s)
40,842 | Milwaukee Electric Tool (Wkrs) | Blytheville, AR | 11/05/2001 | Electric Tools.
40,843 | Superior Millings (Wkrs) | Hurley, WI | 01/16/2002 | Rough-Cut Green Lumber.
40,844 | General Electric Co (Wkrs) | Pittsfield, MA | 08/08/2001 | Accounting Services.
40,845 | Clearpine Mouldings, Inc. (Co.) | Prineville, OR | 01/08/2002 | Door Frames.
40,846 | Praxair, Inc. (TRLU) | Niagara Falls, NY | 01/14/2022 | Industrial Gases.
40,847 | Brunswich Foreign Trade (Co.) | Brunswick, GA | 01/15/2001 | Rents Out Warehouse Facilities.
40,848 | Wateree Textile Corp (Wkrs) | Lugoff, SC | 01/10/2002 | Synthetic Fabrics.
40,849 | Denso Sales California (Co.) | Long Beach, CA | 01/02/2002 | Automotive Tubes and Hoses.
40,850 | New Bold Corporation (Wkrs) | Rocky Mt, WA | 12/13/2001 | Credit Card Imprinters.
40,851 | Owens Illinois (Wkrs) | Newburyport, MA | 11/09/2001 | Blow Molding Plastic Containers.
40,852 | Amarillo Cooper Refinery (Co.) | Amerillo, TX | 01/03/2002 | Cooper: Cathodes, Rod, Cake.
40,853 | Hayes Lemmerz (Wkrs) | Somerset, KY | 11/24/2002 | Aluminum Wheels—Automobiles.
40,854 | MAC Specialties (Co.) | Oceanside, NY | 01/09/2002 | Moam Balls.
40,855 | Quebecor World Kingsport (USWA) | Kingsport, TN | 02/06/2002 | Printed Books.
40,856 | Powermatic Corp. (USWA) | McMinnville, TN | 01/04/2002 | Wood Working Machinery.
40,857 | Goodrich Corp., Fairbanks (Wkrs) | Beloit, WI | 12/13/2001 | Large Diesel and Dual Fuel Engines.
40,857A | Fairbanks Morse Engine (Wkrs) | Norfolk, VA | 12/13/2001 | Large Diesel and Dual Fuel Engines.
40,857A | Fairbanks Morse Engine (Wkrs) | Seattle, WA | 12/13/2001 | Large Diesel and Dual Fuel Engines.
40,857C | Fairbanks Morse Engine (Wkrs) | Houston, TX | 12/13/2001 | Large Diesel and Dual Fuel Engines.
40,858 | National Oilwell (Wkrs) | McAlester, OK | 01/04/2002 | Pumps and Pump Parts.
40,859 | Jacmel Jewels (Wkrs) | Long Island, NY | 11/27/2001 | Fine Jewelry.
40,860 | Inovec, Inc. (Co.) | Eugene, OR | 01/25/2002 | Optimizers.
40,861 | Master Design Furniture (Wkrs) | Eupora, MS | 02/06/2002 | Bed Room, Dining Room Furniture.
40,862 | Brother Industries USA (Co.) | Bartlett, TN | 10/31/2001 | Typewriter Parts.
40,863 | MacDermid Graphic Arts (UNITE) | Adams, MA | 02/06/2002 | Printing Sleeve Cylinders.
40,864 | ECC Card Clothing (Co.) | Fall River, MA | 01/14/2002 | Textile Machine Parts.
40,865 | Sonoco Products (Co.) | Lincolnton, NC | 02/05/2002 | Paper Cores.
40,866 | Tuscarora (Co.) | Cortland, NY | 10/29/2001 | Packaging Materials.
40,867 | Chase Collections (Co.) | Fall River, MA | 01/04/2002 | Ladies' Dresses.
40,868 | Lopal Securities, Inc. (UNITE) | New York, NY | 11/29/2001 | Police Uniforms.
40,869 | Continental Tire North (Co.) | Barnesville, GA | 01/02/2002 | Tire Cord.
40,870 | Porex Technologies (Wkrs) | College Point, NY | 01/02/2002 | Porous Plastic Components.
40,871 | TRW Aeronautical Systems (Wkrs) | Aurora, OH | 12/07/2001 | Power Generators.
40,872 | Hein Werner (Co.) | Baraboo, WI | 01/02/2002 | Collision Repair Equipment.

[FR Doc. 02-8271 Filed 4-4-02; 8:45 am]

BILLING CODE 4510-30-M